DEPARTMENT OF TRANSPORTATION

Federal Motor Carrier Safety Administration

[Docket No. FMCSA-2012-0337]

Qualification of Drivers; Exemption Applications; Vision

AGENCY: Federal Motor Carrier Safety Administration (FMCSA), DOT.

ACTION: Notice of applications for exemptions; request for comments.

SUMMARY: FMCSA announces receipt of applications from 18 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 26, 2012.

ADDRESSES: You may submit comments bearing the Federal Docket Management System (FDMS) Docket No. FMCSA-2012-0337 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 18 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Joseph Colecchi

Mr. Colecchi, age 27, has had amblyopia in his right eye since birth. The best corrected visual acuity in his right eye is 20/50, and in his left eye, 20/20. Following an examination in 2012, his optometrist noted, “In my opinion, Mr. Colecchi has more than adequate vision required to operate a commercial vehicle and there is no reason that he should not continue to receive his CDL.” Mr. Colecchi reported that he has driven straight trucks for 8 years, accumulating 80,000 miles, and tractor-trailer combinations for 8 years, accumulating 80,000 miles. He holds a Class AM Commercial Driver's License (CDL) from Pennsylvania. His driving record for the last 3 years shows no crashes and no convictions for moving violations in a CMV.

William A. Donovan

Mr. Donovan, 54, has had a cataract in his left eye since childhood due to a traumatic incident. The visual acuity in his right eye is 20/20, and in his left eye, 20/200. Following an examination in 2012, his optometrist noted, “In my medical opinion, Mr. Donovan has sufficient vision to perform the driving tasks required to drive a vehicle while on the job.” Mr. Donovan reported that he has driven straight trucks for 17 years, accumulating 142,800 miles. He holds an operator's license from Washington. His driving record for the last 3 years shows no crashes and no convictions for moving violations in a CMV.

Douglas Eamens

Mr. Eamens, 51, has had no light perception in his left eye since childhood due to a traumatic incident. The best corrected visual acuity in his right eye is 20/20, and in his left eye, no light perception. Following an examination in 2012, his optometrist noted, “In my medical opinion, I feel that Mr. Eamens has sufficient vision to operate a commercial vehicle.” Mr. Eamens reported that he has driven straight trucks for 5 years, accumulating 300,000 miles. He holds a Class A CDL from New York. His driving record for the last 3 years shows no crashes and no convictions for moving violations in a CMV.

Brian Knust

Mr. Knust, 47, has had a retinal detachment in his right eye since February 2004. The best corrected visual acuity in his right eye is 20/400, and in his left eye, 20/20. Following an examination in 2012, his optometrist noted, “Brian Knust, in my medical opinion, has sufficient vision to perform the driving tasks required to operate a commercial vehicle.” Mr. Knust reported that he has driven straight trucks for 17 years, accumulating 637,500 miles. He holds a Class D operator's license from Illinois. His driving record for the last 3 years shows no crashes and no convictions for moving violations in a CMV.

Scott A. Lambertson

Mr. Lambertson, 48, has had amblyopia in his left eye since childhood. The visual acuity in his right eye is 20/15, and in his left eye, 20/60. Following an examination in 2011, his optometrist noted, “There is no reason for me to believe that this patient would have any difficulty performing the driving tasks required to operate a commercial motor vehicle.” Mr. Lambertson reported that he has driven straight trucks for 3 years, accumulating 18,000 miles, and tractor-trailer combinations for 4 years, accumulating 8,000 miles. He holds a Class A CDL from Minnesota. His driving record for the last 3 years shows no crashes and no convictions for moving violations in a CMV.

James W. Long

Mr. Long, 57, has had a traumatic cataract in his right eye since 1967. The best corrected visual acuity in his right eye is counting fingers, and in his left eye, 20/15. Following an examination in 2012, his optometrist noted, “Patient has sufficient vision for commercial vehicle operation.” Mr. Long reported that he has driven straight trucks for 35 years, accumulating 875,000 miles, and tractor-trailer combinations for 3 years, accumulating 90,000 miles. He holds a Class D operator's license from Arkansas. His driving record for the last 3 years shows no crashes and no convictions for moving violations in a CMV.

Dean L. Price

Mr. Price, 45, has had amblyopia in his right eye since birth. The best corrected visual acuity in his right eye is 20/400, and in his left eye, 20/20. Following an examination in 2012, his optometrist noted, “In my opinion, I believe that Dean has the sufficient vision to perform the driving tasks required to operate a commercial vehicle.” Mr. Price reported that he has driven straight trucks for 10 years, accumulating 25,000 miles, and tractor-trailer combinations for 4 years, averaging 216,000 miles. He holds a Class A CDL from Washington. His driving record for the last 3 years shows no crashes and no convictions for moving violations in a CMV.

Roberto Ramos

Mr. Ramos, 50, has had amblyopia in his left eye since birth. The best corrected visual acuity in his right eye is 20/20, and in his left eye, 20/100. Following an examination in 2012, his optometrist noted, “In my opinion, and by DPS state standards, Mr. Ramos has sufficient vision to perform the driving tasks required to operate a commercial vehicle.” Mr. Ramos reported that he has driven buses for 14 years, accumulating 909,538 miles. He holds a Class B CDL from Texas. His driving record for the last 3 years shows no crashes and one conviction for speeding in a CMV; he exceeded the speed limit by 5 mph.

Johnie Reed

Mr. Reed, 54, has had open angle glaucoma in his right eye since 2008. The best corrected visual acuity in his right eye is 20/150, and in his left eye, 20/20. Following an examination in 2012, his ophthalmologist noted, “The patient has sufficient vision to drive a commercial vehicle.” Mr. Reed reported that he has driven tractor-trailer combinations for 24 years, accumulating 1.2 million miles. He holds a Class A CDL from Virginia. His driving record for the last 3 years shows no crashes and no convictions for moving violations in a CMV.

Charles Roudebush

Mr. Roudebush, 36, has had a macular scar and amblyopia in his right eye since childhood. The best corrected visual acuity in his right eye is 20/200, and in his left eye, 20/25. Following an examination in 2012, his ophthalmologist noted, “In my opinion, Mr. Roudebush's retina shows scarring of macula and periphery of right eye. This correlates with longstanding amblyopia. The left was clear of any retinopathy. I feel based on this information that he is able to perform driving tasks to operate a commercial vehicle.” Mr. Roudebush reported that he has driven straight trucks for 3 years, accumulating 72,000 miles. He holds Class D operator's license from New Jersey. His driving record for the last 3 years shows no crashes and no convictions for moving violations in a CMV.

Mario G. Sanseverino

Mr. Sanseverino, 59, has complete loss of vision in his left eye due to a traumatic incident in 2008. The best corrected visual acuity in his right eye is 20/20. Following an examination in 2012, his optometrist noted, “Mr. Sanseverino has been operating a commercial vehicle for 3 years post injury to his left eye. He has been accident free during this time. Therefore, I feel he has sufficient vision to perform the driving tasks required to operate a commercial vehicle.” Mr. Sanseverino reported that he has driven straight trucks for 33 years, accumulating 330,000 miles, and tractor-trailer combinations for 33 years, accumulating 1.32 million miles. He holds a Class A CDL from Oklahoma. His driving record for the last 3 years shows no crashes and one conviction for speeding in a CMV; he exceeded the speed limit by 10 mph.

Samuel Soles

Mr. Soles, 29, has had aphakia and a corneal scar in his right eye since childhood due to a traumatic incident. The best corrected visual acuity in his right eye is light perception only, and in his left eye, 20/20. Following an examination in 2012, his ophthalmologist noted that Mr. Soles “has full field OS and has the ability to recognize the colors of traffic control signals and devices showing red, green, and amber, and in my opinion has sufficient vision in the left eye to operate a commercial vehicle.” Mr. Soles reported that he has driven straight trucks for 4.5 years, accumulating 64,800 miles. He holds a Class C chauffeur license from Michigan. His driving record for the last 3 years shows no crashes and one conviction for speeding in a CMV; he exceeded the speed limit by 5 mph.

Joseph Stenberg

Mr. Stenberg, 34, has had complete loss of vision in his left eye since 2008 due to a traumatic incident. The best corrected visual acuity in his right eye 20/20. Following an examination in 2012, his optometrist noted, “In my opinion, Joe has sufficient vision to perform many tasks including driving a commercial motor vehicle.” Mr. Stenberg reported that he has driven straight trucks for 16 years, accumulating 720,000 miles, tractor-trailer combinations for 11 years, accumulating 770,000 miles, and buses for 4 months, accumulating 8,000 miles. He holds a Class A CDL from Montana. His driving record for the last 3 years shows no crashes and no convictions for moving violations in a CMV.

Karl H. Strangfeld

Mr. Strangfeld, 58, has had amblyopia in his left eye since birth. The best corrected visual acuity in his right eye is 20/20, and in his left eye, 20/70. Following an examination in 2012, his optometrist noted, “In my medical opinion, he has sufficient vision to perform the driving tasks necessary to operate a commercial vehicle.” Mr. Strangfeld reported that he has driven straight trucks for 6 years, accumulating 18,000 miles, and tractor-trailer combinations for 6 years, accumulating 90,000 miles. He holds a Class A CDL from Utah. His driving record for the last 3 years shows no crashes and no convictions for moving violations in a CMV.

Grover C. Taylor

Mr. Taylor, 57, has had refractive amblyopia in his left eye since birth. The best corrected visual acuity in his right eye is 20/20, and in his left eye, 20/100. Following an examination in 2012, his optometrist noted, “In my opinion and without reservation I believe Mr. Taylor is able to visually perform the task of operating a commercial vehicle.” Mr. Taylor reported that he has driven tractor-trailer combinations for 3 years, accumulating 111,000 miles. He holds a Class A CDL from Virginia. His driving record for the last 3 years shows no crashes and no convictions for moving violations in a CMV.

Jimmy Van Meter

Mr. Van Meter, 63, has had a traumatic cataract and glaucoma since age 15, causing a field defect in his right eye. The best corrected visual acuity in his right eye is 20/25, and in his left eye, 20/30. Following an examination in 2012, his ophthalmologist noted, “There have been no changes in your visual acuity or visual fields since 2007. It is my opinion that if you have been able to operate a commercial vehicle since that time, then there is no reason to make a change at this time.” Mr. Van Meter reported that he has driven tractor-trailer combinations for 44 years, accumulating 5.5 million miles. He holds a Class A CDL from Arkansas. His driving record for the last 3 years shows no crashes and no convictions for moving violations in a CMV.

Keith Washington

Mr. Washington, 55, has had a branch retinal artery occlusion in his right eye since 1985 due to a traumatic incident. The best corrected visual acuity in his right eye is 20/50, and in his left eye, 20/20. Following an examination in 2012, his ophthalmologist noted, “Patient has sufficient vision to drive and operate a commercial vehicle.” Mr. Washington reported that he has driven straight trucks for 6 years, accumulating 366,000 miles, and tractor-trailer combinations for 19 years, accumulating 1.08 million miles. He holds a Class A CDL from Illinois. His driving record for the last 3 years shows no crashes and no convictions for moving violations in a CMV.

Donald L. Weston

Mr. Weston, 39, has had medullated nerve fibers in his right eye since birth. The best corrected visual acuity in his right eye is counting fingers, and in his left eye, 20/20. Following an examination in 2012, his optometrist noted, “Donald's right eye alone has about 65% intact visual field and along with the normal vision and full field of his left eye, again I have no concern that Donald will be more than capable of operating a commercial vehicle.” Mr. Weston reported that he has driven straight trucks for 7 years, accumulating 77,000 miles, and buses for 7 months, accumulating 9000 miles. He holds an operator's license from Pennsylvania. His driving record for the last 3 years shows no crashes and no convictions for moving violations in a CMV.

Request for Comments

In accordance with 49 U.S.C. 31136(e) and 31315, FMCSA requests public comment from all interested persons on the exemption petitions described in this notice. The Agency will consider all comments received before the close of business December 26, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: November 14, 2012.
Larry W. Minor,
Associate Administrator for Policy.

[FR Doc. 2012-28574 Filed 11-23-12; 8:45 am]

BILLING CODE 4910-EX-P